ENVIRONMENTAL PROTECTION AGENCY

[EPA-HQ-ORD-2011-0977; FRL-9505-5]

Request for Nominations of Experts to the Office of Research and Development's Board of Scientific Counselors (BOSC)

AGENCY: Environmental Protection Agency (EPA).

ACTION: Notice.

SUMMARY: The EPA Board of Scientific Counselors (BOSC) Staff Office is requesting public nominations for technical experts to fill current vacancies on the BOSC Executive Committee. Nominations should be submitted via the BOSC Web site at http://www.epa.gov/osp/bosc/nomination.htm.

DATES: Nominations should be submitted by January 20, 2012, per instructions below.

FOR FURTHER INFORMATION CONTACT: Any member of the public needing additional information regarding this Notice and Request for Nominations may contact Ms. Susan Peterson, Mail Code 8104-R, Office of Science Policy, Office of Research and Development, Environmental Protection Agency, 1200 Pennsylvania Avenue NW, Washington, DC 20460; via phone/voice mail at: (202) 564-1077; via fax at: (202) 565-2911; or via email at: peterson.susan@epa.gov. General information concerning the Board of Scientific Counselors can be found at the BOSC Web site at: http://www.epa.gov/osp/bosc.

SUPPLEMENTARY INFORMATION:

Background

The BOSC is a chartered Federal Advisory Committee that was established by the U.S. EPA to provide independent scientific and technical peer review, advice, consultation, and recommendations about the Office of Research and Development. As a Federal Advisory Committee, the BOSC conducts business in accordance with the Federal Advisory Committee Act (FACA) (5 U.S.C. App. 2) and related regulations.

The BOSC Executive Committee is comprised of approximately 20 members who are recognized experts in various scientific, engineering, and social science fields. EPA is soliciting candidates to fill eight vacancies. EPA will consider candidates from the environmental scientific/technical fields, human health care professionals, academia, industry, public and private research institutes or organizations, non-government organizations, and other relevant interest areas. Members are appointed by the EPA Administrator for a period of three years and serve as special government employees. EPA values and welcomes diversity. In an effort to obtain nominations of diverse candidates, EPA encourages nominations of women and men of all racial and ethnic groups.

Expertise Sought

EPA's BOSC Staff Office is seeking nominations of nationally and internationally recognized scientists, engineers, and social scientists having experience and expertise in one or more of the following areas: Atmospheric Sciences (atmospheric chemistry, atmospheric physics, aerosol chemistry, aerosol physics); Analytical Chemistry; Green Chemistry; Endocrinology (endocrine disruptors); Pulmonary and Cardiovascular Toxicology; Systems Science (systems biology, systems ecology, landscape ecology); Social Sciences (sociology, economics, socioeconomics, environmental economics, ecological economics, natural resource economics); and Behavioral Sciences (psychology, environmental psychology, ecopsychology, conservation psychology, social neuroscience, risk perception, risk communication, crisis communication).

Process and Deadline for Submitting Nominations

Any interested person or organization may nominate themselves or qualified individuals in the areas of expertise described above. Nominations should be submitted via the BOSC Web site (which is preferred over hard copy) at http://www.epa.gov/osp/bosc/nomination.htm. Nominations should be submitted in time to arrive no later than January 13, 2012. To receive full consideration, nominations should include all of the information requested. EPA's BOSC Staff Office requests: Contact information about the person making the nomination; contact information about the nominee; the disciplinary and specific areas of expertise of the nominee; the nominee's curriculum vita and/or resume; sources of recent grant and/or contract support; and a biographical sketch of the nominee indicating current position, educational background, and recent service on other national advisory committees or national professional organizations. Persons having questions about the nomination procedures, or who are unable to submit nominations through the BOSC Web site, should contact Ms. Susan Peterson, as indicated above in this notice.

Selection Criteria

The BOSC is a balanced and diverse expert committee. The committee collectively possesses the necessary domains of expertise, depth and breadth of knowledge, and diverse and balanced scientific perspectives. Selection criteria to be used for membership include: (a) Scientific and/or technical expertise, knowledge, and experience; (b) availability to serve and willingness to commit time to the committee (approximately three to five meetings per year including both face-to-face meetings and teleconferences); (c) absence of financial conflicts of interest; (d) absence of an appearance of a lack of impartiality; (e) skills working on committees and advisory panels; and (f) background and experiences that would contribute to the diversity of viewpoints on the committee, e.g., geographic, economic, social, cultural, educational backgrounds, and professional affiliations.

The BOSC Staff Office's evaluation of an absence of financial conflicts of interest will include a review of the “Confidential Financial Disclosure Form for Special Government Employees Serving on Federal Advisory Committees at the U.S. Environmental Protection Agency” (EPA Form 3110-48). This confidential form allows Government Officials to determine whether there is a statutory conflict between that person's public responsibilities (which includes membership on an EPA Federal advisory committee) and private interests and activities, or the appearance of a lack of impartiality, as defined by Federal regulation. The form may be viewed and downloaded from the following URL address, http://www.epa.gov/osp/bosc/pdf/EPA_3110-48.pdf.

Dated: November 29, 2011.
Fred Hauchman,
Director, Office of Science Policy.

[FR Doc. 2011-31816 Filed 12-9-11; 8:45 am]

BILLING CODE 6560-50-P